OFFICE OF THE UNITED STATES TRADE REPRESENTATIVE

Determination Under the Caribbean Basin Trade Partnership Act

AGENCY: Office of the United States Trade Representative.

ACTION: Notice.

SUMMARY: The United States Trade Representative has determined that Belize, Costa Rica, Dominican Republic, El Salvador, Guatemala, Haiti, Honduras, Jamaica, Nicaragua, and Panama have implemented and follow, or are making substantial progress toward implementing and following, the customs procedures required by the Caribbean Basin Trade Partnership Act and, therefore, imports of eligible products from these countries qualify for the enhanced trade benefits provided under the Act.

EFFECTIVE DATE: October 2, 2000.

FOR FURTHER INFORMATION CONTACT: Christopher Wilson, Director for Central America and the Caribbean, Office of the United States Trade Representative, (202) 395-5190.

SUPPLEMENTARY INFORMATION: The Caribbean Basin Trade partnership Act (Title II of the Trade and Development Act of 2000, Pub. L. No. 106-200) (CBTPA) expands the trade benefits available to Caribbean and Central American countries under the Caribbean Basin Economic Recovery Act (CBERA). The CBTPA reduces or eliminates tariffs and eliminates quantitative restrictions on certain products that previously were not eligible for preferential treatment under the CBERA. The enhanced trade benefits provided by the CBTPA are available to imports of eligible products from countries that (1) are designated as “CBTPA beneficiary countries,” and (2) have implemented and follow, or are making substantial progress toward implementing and following, certain customs procedures, drawn from Chapter 5 of the North American Free Trade Agreement, that allow U.S. Customs to verify the origin of the products.

On October 2, 2000, the President designated all 24 current beneficiaries under the CBERA as “CBTPA beneficiary countries.” Proclamation 7351 delegated to the United States Trade Representative (USTR) the authority to determine whether the designated CBTPA beneficiary countries have implemented and follow, or are making substantial progress toward implementing and following, the customs procedures required by the CBTPA. The President directed the USTR to announce any such determinations in the Federal Register and to implement any such determinations in the Harmonized Tariff Schedule (HTS).

Based on information and commitments received from beneficiary countries to date, I have determined that Belize, Costa Rica, Dominican Republic, El Salvador, Guatemala, Haiti, Honduras, Jamaica, Nicaragua, and Panama have implemented and follow, or are making substantial progress toward implementing and following, the customs procedures required by the CBTPA. Accordingly, pursuant to the authority vested in the USTR by Proclamation 7351, the HTS is modified as provided in Proclamation 7351 and as specified in the Annex to this notice, effective with respect to articles entered, or withdrawn from warehouse, on or after October 2, 2000. The USTR will publish additional notices in the Federal Register announcing any determinations that other CBTPA beneficiary countries have satisfied the required customs procedures.

Charlene Barshefsky,
United States Trade Representative.

Annex

Pursuant to the authority created in Proclamation 7351, the HTS is modified as follows:

1(a). General note 17(a) to the HTS, as established by the annex to such Proclamation, is modified by inserting at the end of the text the following new sentence and enumeration:

“The following countries have been determined by the USTR to have satisfied the customs requirements of the CBTPA and, therefore, to be afforded the tariff treatment provided for in this note:

Belize, Costa Rica, Dominican Republic, El Salvador, Guatemala, Haiti, Honduras, Jamaica, Nicaragua, Panama”

(b). General note 17(d) to the HTS, as established by the annex to such Proclamation, is modified by striking “the date announced in a Federal Register notice issued by the United States Trade Representative” and by inserting in lieu thereof “October 2, 2000.”

2. The text of U.S. note 7 to subchapter II of chapter 98 of the HTS, as established by the annex to such Proclamation, is modified by inserting before it the paragraph designation “(b)”. Such paragraph is modified by inserting at the end thereof the following new sentence and enumeration:

“The following countries have been determined by the USTR to have satisfied the customs requirements of the CBTPA and, therefore, to be afforded the tariff treatment provided for in this note:

Belize, Costa Rica, Dominican Republic, El Salvador, Guatamala, Haiti, Honduras, Jamaica, Nicaragua, Panama”

3. U.S. note 1 subchapter XX of chapter 98 of the HTS, as established by the annex to such Proclamation, is modified by adding at the end of the text of such note the following new sentence and enumeration:

“The following countries have been determined by the USTR to have satisfied the customs requirements of the CBTPA and, therefore, to be afforded the tariff treatment provided for in this note:

Belize, Costa Rica, Dominican Republic, El Salvador, Guatemala, Haiti, Honduras, Jamaica, Nicaragua, Panama”

4. U.S. note 2(b) and (c) are each modified by striking the expression “the date announced in a Federal Register notice issued by the United States Trade Representative” and by inserting in lieu thereof “October 2, 2000”.

[FR Doc. 00-26072 Filed 10-5-00; 2:22 am]

BILLING CODE 3190-01-M